DEPARTMENT OF AGRICULTURE

Forest Service

Revised Land and Resource Management Plan for the Allegheny National Forest (Elk, Forest, McKean and Warren Counties, PA.)

AGENCY: Forest Service, USDA.

ACTION: Notice of intent to prepare an Environmental Impact Statement.

SUMMARY: The USDA Forest Service intends to prepare an Environmental Impact Statement (EIS) for revising the Allegheny National Forest Land and Resource Management Plan (Forest Plan) pursuant to 16 U.S.C. 1604(f)(5) and USDA Forest Service National Forest System Land and Resource Management Planning regulations (36 CFR 219). The revised Forest Plan will supersede the current Forest Plan, which the Regional Forester approved on April 24, 1986, and has been amended 11 times. This notice describes the preliminary issues which will be emphasized, the estimated dates for filing the EIS, the information concerning public participation, and the names and addresses of the responsible agency official and the individual who can provide additional information.

DATES: Your comments on this Notice of Intent (NOI) should be submitted in writing by November 10, 2003. The Draft EIS is expected to be available for public review by July 2005. The Final EIS and revised Forest Plan are expected to be completed by March 2006.

ADDRESSES: Send written comments to: Allegheny National Forest, Plan Revision Notice of Intent, c/o Content Analysis Team, P.O. Box 221090, Salt Lake City, UT 84122. Fax: (801) 517-1014; e-mail: alleghenynoi@fs.fed.us.

FOR FURTHER INFORMATION CONTACT: Michael Hampton, Forest Plan Revision Staff Officer, (814) 723-5150. TTY: (814) 726-2710. Information will also be posted on the Allegheny National Forest Web page at http://www.fs.fed.us/r9/allegheny.

Responsible Official: Randy Moore, Regional Forester, Eastern Region, 626 E. Wisconsin Ave., Milwaukee, Wisconsin 53202.

SUPPLEMENTARY INFORMATION: The Regional Forester for the Eastern Region gives notice of the agency's intent to prepare an EIS to revise the Allegheny Forest Plan. The Regional Forester approved the original Allegheny Forest Plan on April 24, 1986. This plan guides the overall management of the Allegheny National Forest. The National Forest Management Act requires that national forests revise forest plans at least every 15 years (U.S.C. 1604[f][5]). Additional indicators of the need to revise the 1986 Allegheny Forest Plan are: (1) Changes in forest conditions; (2) changes in public demands and expectations; (3) changes in law, policy or regulatory direction; (4) results of monitoring and evaluation of implementation under the current Forest Plan; (5) new science that indicates emerging issues, concerns or opportunities that are not adequately addressed in the current Forest Plan.

Nature and Scope of the Decision to be Made: Forest plans make the following types of decisions:

1. Forest-wide multiple-use goals and objectives. Goals describe a desired condition to be achieved sometime in the future. Objectives are concise, time-specific statements of measurable planned results that respond to the goals.

2. Forest-wide management direction and requirements. These include limitations on management activities, or advisable courses of action that apply across the entire forest.

3. Management direction specific to certain portions (management areas) of the Forest. This includes the desired future condition for different areas of the forest, and the accompanying management direction to help achieve that condition.

4. Lands suited and not suited for resource use and production (e.g. timber management).

5. Monitoring and evaluation requirements needed to gauge how well the Forest Plan is being implemented.

6. Recommendations to Congress, if any (e.g. additional Wilderness designation).

The scope of this decision is limited to revisiting only those portions of the current Forest Plan that need revision, update, or correction. The Allegheny National Forest proposes to narrow the scope of revising the Forest Plan by focusing on issues identified as being most critically in need of change.

Preliminary Issues

Many sources were reviewed to identify the parts of the current Forest Plan that need revision, update, or correction. These sources included: Input from the public; comments from employees of the Forest Service and other governmental agencies; consultations with the Seneca Nation of Indians; results of monitoring and evaluation; changes in law and policy; new scientific information, as well as the direction outlined in the 2000 USDA Forest Service Strategic Plan.

Based on the Allegheny National Forest's review of the current Forest Plan and the sources listed above, the Allegheny National Forest proposes to emphasize the following preliminary issues:

A. Recreation

This issue involves providing for various types of recreation opportunities, in order to provide an appropriate array of recreation for the public.

• Recreation. This involves developed recreation facilities and trails and dispersed recreation for both motorized and non-motorized use. A determination of available settings, opportunities and experiences for recreation will be made using the Recreation Opportunity Spectrum. The types, amount and location of semi-primitive, remote recreation on the Allegheny National Forest will be evaluated. Additionally, public input, current use, compatibility of uses, resource capability, existing development, and changes in recreation supply, demand and trends are all factors that will affect how recreation will be addressed. Revising the Forest Plan will also likely include refining goals, objectives, and updating standards and guidelines to address current conditions and projected changes in recreation supply and demand within the Allegheny National Forest. Anticipated changes would likely occur both forest-wide and for individual management areas, as well as monitoring requirements.

B. Vegetation Management

This issue involves maintaining healthy forest conditions capable of providing sustainable levels of forest products.

• Vegetation composition. This addresses the diversity of tree stands (particularly by species and age-class) on the Forest. In addition to changes in land allocations, proposed changes may also include revising standards and guidelines to modify the timing, sequence, or intensity of some harvesting or reforestation practices, which could lead to an increased emphasis on adaptive management and modifications to the range and types of activities available for use in specific management areas.

• Forest health. This addresses the Forest's resistance to health threats posed by pest infestations, disease, acid deposition, wind events, and other damaging agents. For example, information obtained by the Allegheny National Forest indicates some species, such as American beech and sugar maple, are being affected disproportionately by these health threats. Proposed changes will involve management area land allocations, modifications to the range and types of activities available for use in specific management areas, and changes to the standards and guidelines associated with them. There is also a need to develop guidelines for more timely and effective responses to insect and disease threats.

• Special forest products. This addresses production of non-timber forest products such as mushrooms, berries and medicinal herbs. Proposed changes include the addition of standards and guidelines that implement an ecologically based approach to special forest product management.

• Reforestation techniques. This addresses management components such as herbicide applications, deer fences and fertilization. Proposed changes include standards and guidelines that encourage the use of prescribed fire and modify the use of deer fences in certain circumstances. For herbicide use, there is a need to review the literature, make appropriate changes to standards and guidelines, and update assessments of risks to human health and wildlife.

• Timber production suitability determinations. This addresses lands that are classified as suited or unsuited for timber production. The Allegheny National Forest proposes to review and change lands identified as suitable and not suitable for timber production incorporating new information on ecosystem sustainability and capability. Information disclosed in the Analysis of Timber Harvest Program Capability Report for 1995-2005 will be used in harvest level determination.

• Silvicultural systems. This addresses the use of various types of even and uneven-aged forest management systems. Proposed changes include revised standards and guidelines that incorporate new science concerning the range and types of even and uneven-aged silvicultural systems that should be made available for use in various management areas. Current Forest Plan implementation experience has demonstrated that commercial thinning objectives identified for Management Area 3.0 may not be feasible from an operational, economic, and soil protection perspective. Standards and guidelines and timber management goals and objectives will be reviewed to address these concerns.

C. Habitat Diversity

This issue involves maintaining the viability of native and desired non-native species found on the Forest. In addition to ecosystem and species diversity objectives across the Forest, habitat for game species and habitat connectivity across the landscape will be emphasized.

• Native and desired non-native species. Updated information on species needs and a landscape analysis of habitat patterns may change management direction for native and desired non-native species on the Forest.

• Conserving habitat for threatened, endangered and sensitive species. Proposed changes include management area land allocations and standards and guidelines to address the likelihood of these species' persistence.

• Invasive species. Proposed changes will incorporate new management direction for implementing a comprehensive Non-Native Invasive Species program. As a result, new standards and guidelines will be developed that address non-native invasive species of current concern while retaining flexibility to address new non-native species that may be identified in the future.

• Habitat for game species. A landscape analysis of habitat patterns may result in revised land allocations for various management areas and modified standards and guidelines.

• Habitat connectivity across the landscape. Consideration of habitat connectivity will be incorporated into the land allocations, goals, objectives, standards and guidelines for certain management areas.

• Old-growth/late-successional habitat. Proposed changes will draw upon clearer definitions for old-growth and late-successional forests in order to determine land allocations for these habitat types. An updated inventory may lead to re-defined goals, objectives, standards and guidelines for certain management areas.

D. Special Area Designations

This issue involves making recommendations to Congress for wilderness study areas and identifying potential opportunities to expand or designate new National Recreation Areas, Research Natural Areas, Scenic Areas, and Heritage Special Areas.

• Wilderness. A roadless area inventory and evaluation of potential wilderness will be part of the revision process. The inventory process will analyze areas for roadless qualities. Those areas that meet basic inventory criteria will be evaluated as potential wilderness study areas. Based on the results of this work, recommendations to Congress may be made for potential wilderness study areas.

• Wild and Scenic Rivers. This addresses a type of Congressional designation emphasizing the protection of rivers having outstandingly remarkable values. Proposed changes may result from a determination of the eligibility of Kinzua Creek, Bear Creek, Tionesta Creek, and the East Branch of Tionesta. The non-eligibility of previously identified and/or other rivers and streams will also be validated. Goals, objectives, desired future conditions, standards and guidelines may be revised to reflect new information and understanding about river protection and management. The Allegheny is working to complete the Clarion River Management Plan and finalize river corridor boundaries which will also be incorporated into the Revised Forest Plan.

Other Revision Changes

Other changes may be made in the Forest Plan to reflect updates, corrections or modifications that will clarify or strengthen guidance provided in the plan. They include:

1. Soil and Water Quality

• Timber harvest methods. Proposed changes include modifications to soil and water quality goals, objectives, standards and guidelines to address the compatibility of various conventional and unconventional harvest methods such as the use of helicopters and horses.

• Watershed quality and restoration. Proposed changes include identifying monitoring thresholds and mitigation measures, adoption of watershed-specific standards and guidelines, and establishment of a specific management area for riparian zones.

• Soil resources. Proposed changes include updating or adding goals, objectives, monitoring protocols, standards and guidelines based on new information, monitoring data, and regional guidance for protection of soil resources. New information and monitoring data will be included in the analysis of alternatives.

2. Heritage Resources

Proposed changes include revising standards and guidelines, in consultation with state and tribal historic preservation offices and other entities, to reflect changing conditions with respect to archaeological sites. These changes will incorporate all current laws and regulations.

3. Scenery

Proposed changes include incorporation of new national scenery management standards to integrate benefits, desires and preferences for aesthetics and scenery. The Visual Management System will be replaced with the Scenery Management System, a scenery planning tool. Mapping and definition of new scenery objectives will be made across the Allegheny National Forest.

4. Transportation Systems

Proposed changes include modifications to road closure policies based on changes in management area goals, objectives, allocations, and changes in standards and guidelines. Establishment of new standards and guidelines by management area for road density will be considered.

5. Monitoring

Proposed changes center on the development of a systematic framework of criteria and indicators to assist in monitoring management outcomes. This will allow for improved evaluation of management practices that enable determination of the adjustments needed for achieving desired outcomes. Improvements to monitoring and evaluation methods will enable a more effective use of an adaptive management approach.

6. Management Areas

Management areas display how lands will be allocated for various management objectives and outcomes. Proposed changes include re-defining and re-mapping management areas on a landscape level to create a strategic, programmatic and outcome-based plan that is more compatible with an ecosystem management approach. Particular emphasis will be placed on revising the goals and objectives for certain management areas, such as Management Area 6.1, to address habitat connectivity concerns. Modifications to Management Area 6.2 are needed to address compatibility issues between timber management and dispersed recreation. An evaluation of the extent of oil and gas development on the Allegheny National Forest may also lead to a re-allocation of lands such as Management Area 9.1.

7. Economics

Any changes will be analyzed in terms of the economic stability of communities in the region surrounding the Allegheny National Forest. Alternatives developed for the Forest Plan Revision will be evaluated in terms of their economic impact on these communities, recognizing contributions to diversification and long-term sustainability of communities' economies and the linkages among on-forest and off-forest activities.

Additional detail on changes to be addressed in Forest Plan Revision is available in the document entitled “Analysis of the Need for Change in Forest Plan Revision.” You are encouraged to review this additional document before commenting on the Notice of Intent. You may request the additional information as indicated in the ADDRESSES and FOR FURTHER INFORMATION CONTACT sections of this notice.

Issues not Addressed in Forest Plan Revision: Issues addressed adequately in the current Forest Plan will not be revisited. Issues that relate to site-specific actions are better addressed in projects. Some issues, while important, are beyond the authority of the Allegheny National Forest. Issues that do not pertain to the six decisions made in Forest Plans are excluded from further consideration. In addition, some issues, though related to Forest Plan Revision, may not be undertaken at this time, but addressed later as a future Forest Plan amendment. Not all issues raised by the public are applicable to Forest Plan Revision and will consequently not be addressed in Revision. They include:

Improving public education and outreach. The Allegheny National Forest received numerous comments requesting more education programs and public outreach in regard to the Allegheny and the way it is managed. However, the direction provided in the current Forest Plan is adequate to address these concerns and realize the suggested improvements. Public education and outreach has been limited by a lack of staff and funding rather than Forest Plan direction.

Acquisition of mineral rights. The current Forest Plan adequately allows the Allegheny National Forest to acquire mineral rights, especially in consideration of special area designations, such as wilderness. The limiting factor is whether the Allegheny National Forest has the funding needed to make these purchases, and also whether there are willing sellers.

Appeals and litigation. The public has expressed concerns and frustration with legal challenges to management on the Allegheny National Forest. Laws and federal regulations govern how litigation is handled. The Allegheny National Forest does not have the authority to change these procedures.

Creation of jobs and community stability. The resource management activities of the Allegheny National Forest have impacts on the regional economy, including employment and community well-being. As a resource management agency, the Forest Service is required to maximize long-term net public benefit. Analysis of Forest Plan Revision alternatives will include assessments of economic impact, and these will be reported to the public as part of the Environmental Impact Statement.

Implementation of the current Forest Plan. Many public concerns focus on problems that the Allegheny National Forest has experienced in achieving the goals and objectives set forth in the current Forest Plan, particularly regarding timber harvest levels, miles of ATV trails, and creation of early-successional habitat. In each case, the current Forest Plan sets expectations that have not been fully met due to a variety of reasons, such as funding limitations. The reasons for these problems rest with implementation of the Forest Plan rather than the direction of the Forest Plan itself.

Site-specific improvements. Both the public and Allegheny National Forest staff have identified numerous site-specific improvements, such as:

• “Create more low-head dams and improvements.”

• “Develop a trailhead at Bear Creek to create funding for a bridge.”

• “Develop a trailhead in Ridgway.”

• “Create an ATV connector trail for Sandy Beach to Timberline ATV Trail.”

• “Build a lodge/restaurant development at Willow Bay area.”

• “Complete the Sugar Run Day Use Area.”

• “Grant an easement for construction of a rails-to-trails trail for Kinzua Bridge to Red Bridge.”

• “Increase mileage by building a bike/hike trail from the end of Elijah Bank to Dewdrop.”

Improvements such as these are more appropriately addressed on a project level rather than on a Forest level. The Allegheny National Forest welcomes the opportunity to work collaboratively with the public and interest groups to develop strategies for meeting common interests that set goals and project schedules within budget constraints.

Range of Alternatives: The Allegheny National Forest will consider a range of alternatives when revising the Forest Plan. Alternatives will provide different ways to address and respond to issues identified during the scoping process. A “no-action alternative” reflecting the effects of continuing management as directed under the existing Forest Plan is a required alternative.

Inviting Public Participation: The Allegheny National Forest is now soliciting comments and suggestions from the Seneca Nation of Indians, Federal agencies, State and local governments, individuals, and organizations on the scope of the analysis to be included in the draft environmental impact statement for the revised Forest Plan (40 CFR 1501.7). Comments should focus on (1) the preliminary issues proposed to be emphasized in revising the Forest Plan, (2) possible means of addressing concerns associated with these issues, (3) potential environmental effects and other management outcomes that should be included in the analysis, and (4) any possible impacts associated with the proposal based on an individual's civil rights (race, color, national origin, age, religion, gender, disability, political beliefs, sexual orientation, marital or family status). The Allegheny National Forest will encourage public participation in the environmental analysis and decision-making process.

Along with the release of this NOI, the Allegheny National Forest is providing for additional public engagement through a series of collaborative learning workshops held throughout the revision process. Please see the document entitled “Analysis of the Need for Change in Forest Plan Revision” for more information about the collaborative learning methodology for public involvement.

The first round of public workshops was held in May 2003, in DuBois and Bradford, PA. A second round was held in August 2003, in Warren, Erie, and University Park, PA. The next round of public involvement will be two open houses, one from 5:30 to 9:30 p.m. on October 27, 2003, at the Holiday Inn on Ludlow Street in Warren, PA., and another from 5:30 to 9:30 p.m. on October 28, 2003, at the Quality Inn and Suites at the junction of Interstate 90 and State Route 97 in Erie, PA. In addition, a formal public hearing will be held from 1 to 5 p.m. on November 5, 2003, at Toftrees Resort and Conference Center, 1 Country Club Lane, State College, PA. Five more rounds of public involvement opportunities are anticipated over the remainder of the revision process, and are tentatively planned for March 2004, November 2004, April 2005, June 2005, and February 2006.

For a discussion of the process used to narrow the range of Forest Plan Revision changes, please see the document entitled “Analysis of the Need for Change in Forest Plan Revision.” You may request a copy of this document as indicated in the ADDRESSES and FOR FURTHER INFORMATION CONTACT sections of this notice.

Availability of Public Comment: Comments received in response to this solicitation, including names and addresses of those who comment, will be considered part of the public record on this proposed action and will be available for public inspection. Comments submitted anonymously will be accepted and considered; however, those who submit anonymous comments will not have standing to appeal the subsequent decisions under 36 CFR parts 215 or 217.

Additionally, pursuant to 7 CFR 1.27(d), any persons may request the agency to withhold a submission from the public record by showing how the Freedom of Information Act (FOIA) permits such confidentiality. Persons requesting such confidentiality should be aware that under FOIA confidentiality may be granted in only very limited circumstances, such as to protect trade secrets.

The Forest Service will inform the requester of the agency's decision regarding the request for confidentiality and, where the requester is denied, the agency will return the submission and notify the requester that the comments may be resubmitted with or without name and address within 90 days.

Release and Review of the Draft EIS (DEIS): The DEIS is expected to be filed with the Environmental Protection Agency (EPA) and to be available for public comment in July 2005. At that time, the EPA will publish a notice of availability in the Federal Register. The comment period on the DEIS will extend 90 days from the date the EPA publishes the notice of availability in the Federal Register.

The Forest Service believes that it is important, at this early stage, to give reviewers notice of several court rulings related to public participation in the environmental review process. First, reviewers of the DEIS must structure their participation in the environmental review of the proposal so that it is meaningful and alerts an agency to the reviewer's position and contentions. Vermont Yankee Nuclear Power Corp. v. NRDS, 435 U.S. 519, 553 (1978). Also, environmental objections that could be raised at the DEIS stage but that are not raised until after completion of the final environmental impact statement (FEIS) may be waived or dismissed by the courts. City of Angoon v. Hodel, 803 F.2d 1016, 1022 (9th cir. 1986) and Wisconsin Heritages, Inc. v. Harris, 490 F. Supp. 1334, 1338 (E.D. Wis. 1980). Because of these court rulings it is very important that those interested in this proposed action participate by the close of the 90-day comment period on the DEIS, so that substantive comments and objections are made available to the Forest Service at a time when it can meaningfully consider them and respond to them in the FEIS.

To assist the Forest Service in identifying and considering issues and concerns on the proposed action, comments on the DEIS should be as specific as possible. It is also helpful if comments refer to specific pages or chapters of the draft statement. Comments may also address the adequacy of the DEIS or the merits of the alternatives formulated and discussed in the statement. Reviewers may wish to refer to the Council of Environmental Quality Regulations (http://ceq.eh.doe.gov/nepa/nepanet.htm) for implementing the procedures of the National Environmental Policy Act at 40 CFR 1503.3 in addressing these points.

(Authority: 40 CFR 1501.7 and 1508.22; Forest Service Handbook 1909.15, Section 21).
Dated: September 19, 2003.
Randy Moore,
Regional Forester.

[FR Doc. 03-24268 Filed 9-24-03; 8:45 am]

BILLING CODE 3410-11-P